DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions pending through December 31, 1999, and contract actions that have been completed or discontinued since the last publication of this notice on October 21, 1999. From the date of this publication, future quarterly notices during this calendar year will be limited to new, modified, discontinued, or completed contract actions. This annual notice should be used as a point of reference to identify changes in future notices. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 52 FR 11954, Apr. 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, Feb. 22, 1982, a tabulation is provided of all proposed contractual actions in each of the five Reclamation regions. Each proposed action is, or is expected to be, in some stage of the contract negotiation process in 2000. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (i) the significance of the modification, and (ii) the degree of public interest which has been expressed over the course of the negotiations. As a minimum, the regional director shall furnish revised contracts to all parties who requested the contract in response to the initial public notice.

Acronym Definitions Used Herein

(BON) Basis of Negotiation

(BCP) Boulder Canyon Project

(CAP) Central Arizona Project

(CUP) Central Utah Project

(CVP) Central Valley Project

(CRSP) Colorado River Storage Project

(D&MC) Drainage and Minor Construction

(FR) Federal Register

(IDD) Irrigation and Drainage District

(ID) Irrigation District

(M&I) Municipal and Industrial

(NEPA) National Environmental Policy Act

(O&M) Operation and Maintenance

(P-SMBP) Pick-Sloan Missouri Basin Program

(PPR) Present Perfected Right

(RRA) Reclamation Reform Act

(R&B) Rehabilitation and Betterment

(SOD) Safety of Dams

(SRPA) Small Reclamation Projects Act

(WCUA) Water Conservation and Utilization Act

(WD) Water District

Pacific Northwest Region

Bureau of Reclamation, 1150 North Curtis Road, Suite 100, Boise, Idaho 83706-1234, telephone 208-378-5346.

1. Irrigation, M&I, and miscellaneous water users; Idaho, Oregon, Washington, Montana and Wyoming: Temporary or interim water service contracts for irrigation, M&I, or miscellaneous use to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project, Idaho; Clark and Edwards Canal and Irrigation Company, Enterprise Canal Company, Ltd., Lenroot Canal Company, Liberty Park Canal Company, Parsons Ditch Company, Poplar ID, Wearyrick Ditch Company, all in the Minidoka Project, Idaho; Juniper Flat District Improvement Company, Wapinitia Project, Oregon; Roza ID, Yakima Project, Washington: Amendatory repayment and water service contracts; purpose is to conform to the RRA (Public Law 97-293).

5. Bridgeport ID, Chief Joseph Dam Project, Washington: Warren Act contract for the use of an irrigation outlet in Chief Joseph Dam.

6. Palmer Creek WD Improvement Company, Willamette Basin Project, Oregon: Irrigation water service contract for approximately 13,000 acre-feet.

7. U.S. Fish and Wildlife Service and Boise-Kuna ID, Boise Project, Idaho: Memorandum of Agreement for the use of approximately 400 acre-feet of storage space annually in Anderson Ranch Reservoir. Water to be used for wildlife mitigation purposes (ponds and wetlands).

8. North Unit ID and/or City of Madras, Deschutes Project, Oregon: Long-term municipal water service contract for provision of approximately 125 acre-feet annually from the project water supply to the City of Madras.

9. North Unit ID District, Deschutes Project, Oregon: Repayment contract for reimbursable cost of dam safety repairs to Wickiup Dam.

10. Five individual contractors, Umatilla Project, Oregon: Repayment agreements for reimbursable cost of dam safety repairs to McKay Dam.

11. North Unit ID, Deschutes Project, Oregon: Warren Act contract with cost of service charge to allow for use of project facilities to convey non-project water.

12. Baker Valley ID, Baker Project, Oregon: Warren Act contract with cost of service charge to allow for use of project facilities to store non-project water.

13. Okanogan ID, Okanogan Project, Washington: SOD contract to repay District's share of cost of dam safety repairs to Salmon Lake Dam.

14. Trendwest Resorts, Yakima Project, Washington: Long-term water exchange contract for assignment of Teanaway River and Big Creek water rights to Reclamation for instream flow use in exchange for annual use of up to 3,500 acre-feet of water from Cle Elum Reservoir for a proposed resort development.

15. Milner ID, Minidoka-Palisades Projects, Idaho: Amendment of storage contracts to reduce the District's spaceholding in Palisades Reservoir by up to 5,162 acre-feet, thereby allowing use of this space by Reclamation for flow augmentation.

16. City of Cle Elum, Yakima Project, Washington: Contract for up to 2,170 acre-feet of water for municipal use.

Mid-Pacific Region

Bureau of Reclamation, 2800 Cottage Way, Sacramento, California 95825-1898, telephone 916-978-5250.

1. Irrigation water districts, individual irrigators, MI and miscellaneous water users, Mid-Pacific Region projects other than CVP: Temporary (interim) water service contracts for available Project water for irrigation, M&I, or fish and wildlife purposes providing up to 10,000 acre-feet of water annually for terms up to 5 years; temporary Warren Act contracts for use of Project facilities for terms up to 1 year; long-term contracts for similar service for up to 1,000 acre-feet annually.

Note. Copies of the standard forms of temporary water service contracts for the various types of service are available upon written request from the Regional Director at the address shown above.

2. Contractors from the American River Division, Buchanan Unit, Cross Valley Canal, Delta Division, Friant Division, Hidden Unit, Sacramento River Division, San Felipe Division, Shasta Division, Trinity River Division, and West San Joaquin Division, CVP, California: Early renewal of existing long-term and interim renewal water service contracts with contractors having contracts which expire between 2000 and 2001; water quantities for these contracts total in excess of 5.6M acre-feet. These contract actions will be accomplished through long-term renewal contracts pursuant to Public Law 102-575. Prior to completion of negotiation of long-term renewal contracts, existing interim renewal water service contracts may be renewed through successive interim renewal of contracts.

3. Redwood Valley County WD, SRPA, California: District is considering restructuring the repayment schedule pursuant to Public Law 100-516 or initiating new legislation to prepay the loan at a discounted rate. Prepayment option under Public Law 102-575 has expired.

4. El Dorado County Water Agency, CVP, California: M&I water service contract to supplement existing water supply: 15,000 acre-feet for El Dorado County Water Agency authorized by Public Law 101-514.

5. U.S. Fish and Wildlife Service, California Department of Fish and Game, Grasslands WD, CVP, California: Water service contracts to provide water supplies for refuges and private wetlands within the CVP pursuant to Public Law 102-575 and Federal Reclamation Laws; quantity to be contracted for is approximately 450,000 acre-feet.

6. Sutter Extension WD, Biggs-West Gridley WD, Buena Vista Water Storage District, and the State of California Department of Water Resources, CVP, California: Pursuant to Public Law 102-575, conveyance agreements for the purpose of wheeling refuge water supplies and funding District facility improvements and exchange agreements to provide water for refuge and private wetlands.

7. Mountain Gate Community Services District, CVP, California: Amendment of existing long-term water service contract to include right to renew. This amendment will also conform the contract to current Reclamation law, including Public Law 102-575.

8. Santa Barbara County Water Agency, Cachuma Project, California: Repayment contract for SOD work on Bradbury Dam.

9. CVP Service Area, California: Temporary water purchase agreements for acquisition of 20,000 to 200,000 acre-feet of water for fish and wildlife purposes as authorized by the Central Valley Project Improvement Act for terms of up to 3 years.

10. City of Roseville, CVP, California: Execution of long-term, Warren Act contract for conveyance of non-project water provided from the Placer County Water Agency. This contract will allow CVP facilities to be used to deliver non-project water to the City of Roseville for use within their service area.

11. Sacramento Municipal Utility District, CVP, California: Amendment of existing water service contract to allow for additional points of diversion and assignment of up to 15,000 acre-feet of CVP water to the Sacramento County Water Agency. The amended contract will conform to current Reclamation law.

12. Mercy Springs WD, CVP, California: Partial assignment of about 7,000 acre-feet of Mercy Springs WD's water service contract to Westlands WD for agricultural use.

13. Santa Barbara County Water Agency, Cachuma Project, California: Contract to transfer responsibility for O&M and O&M funding of certain Cachuma Project facilities to the member units.

14. M&T, Inc., Sacramento River Water Rights Contractors, CVP, California: A proposed exchange agreement with M&T, Inc., to take Butte Creek water rights water from the Sacramento River in exchange for CVP water to facilitate habitat restoration.

15. East Bay Municipal Utility District, CVP, California: Amendment to long-term water service contract No. 14-06-200-5183A, to change the points of diversion.

16. Madera ID, Lindsay-Strathmore ID, and Delta Lands Reclamation District No. 770, CVP, California: Execution of 2- to 3-year Warren Act contracts for conveyance of non-project water in the Friant-Kern and/or Madera Canals when excess capacity exists.

17. Casitas Municipal WD, Ventura Project, California: Repayment contract for SOD work on Casitas Dam.

18. Centerville Community Services District, CVP, California: A long-term supplemental repayment contract for reimbursement to the United States for conveyance costs associated with CVP water conveyed to Centerville.

19. El Dorado ID, CVP, California: Execution of long-term Warren Act contract for conveyance of non-project water. This contract will allow CVP facilities to be used to deliver non-project water to the District for use within their service area.

20. Placer County Water Agency, CVP, California: Amendment of existing water service contract to allow for additional points of diversion and reduction in the amount of CVP water to be delivered from a maximum of 117,000 acre-feet to a maximum of 35,000 acre-feet. The amended contract will conform to current Reclamation law.

21. Langell Valley ID, Horsefly ID, and Tulelake ID, Klamath Project, Oregon: Repayment contract for SOD work on Clear Lake Dam.

22. Widren WD, CVP, California: Assignment of 2,940 acre-feet of Widren WD's water service contract to the City of Tracy. The assignment will require approval of conversion of the District's CVP irrigation water to M&I.

23. Warren Act Contracts, CVP, California: Execution of long-term Warren Act contracts with various entities for conveyance of non-project water in the Delta-Mendota Canal.

24. Tuolumne Utilities District (formerly Tuolumne Regional WD), CVP, California: Long-term water service contract for up to 9,000 acre-feet from New Melones Reservoir, and possibly long-term contract for storage of non-project water in New Melones Reservoir.

25. Sierra Pacific Power Company, Town of Fernley, State of California, City of Reno, City of Sparks, Washoe County, State of Nevada, Truckee-Carson ID, and any other local interest or Native-American Tribal interest, who may have negotiated rights under Public Law 101-618; Nevada and California: Contract for the storage of non-Federal water in Truckee River reservoirs as authorized by Public Law 101-618 and the Preliminary Settlement Agreement. The contracts shall be consistent with the Truckee River Water Quality Settlement Agreement and the terms and conditions of the proposed Truckee River Operating Agreement.

26. City of Folsom, CVP, California: Contract to amend their water rights settlement contract's point of diversion.

27. Banta Carbona ID, CVP, California: Long-term Warren Act contract for conveyance of non-project water in the Delta-Mendota Canal.

28. Contra Costa WD, CVP, California: Amend water service contract No. I75r-3401 for the purpose of renegotiating the provisions of contract article 12, “Water Shortage and Apportionment,” to conform to current CVP M&I water shortage policy.

29. Plain View WD, CVP, California: Long-term Warren Act contract for conveyance of non-project water in the Delta-Mendota Canal.

30. City of Redding, CVP, California: Amend water contract No. 14-06-200-5272A for the purpose of renegotiating the provisions of contract article 15, “Water Shortage and Apportionment,” to conform to current CVP M&I water shortage policy.

31. Tehama-Colusa Canal Authority, CVP, California: Amendment of existing long-term O&M agreement to also include the O&M of the Red Bluff Diversion Dam and related facilities.

32. Byron-Bethany ID, CVP, California: Long-term Warren Act contract for conveyance of non-project water in the Delta-Mendota Canal.

33. Resource Renewal Institute, CVP, California: Proposed water purchase agreement with Resource Renewal Institute for the permanent purchase of water rights on Butte Creek for instream flow purposes.

34. Sacramento Area Flood Control Agency, CVP, California: Execution of a long-term Operations Agreement for flood control operations of Folsom Dam and Reservoir to allow for recovery of costs associated with operating a variable flood control pool of 400,000 to 670,000 acre-feet of water during the flood control season. This agreement is to conform to Federal law.

35. Lower Tule River ID, Porterville ID, Vandalia ID, and Pioneer Water Company, Success Project, California: Repayment contract for the SOD costs assigned to the irrigation purpose of Success Dam.

The following contract action has been discontinued since the last publication of this notice on October 21, 1999.

1. (5) Naval Air Station and Truckee Carson ID, Newlands Project, Nevada: Amend water service agreement No. 14-06-400-1024 for the use of project water on Naval Air Station Land. This action has been postponed, but may be pursued at a later time.

Lower Colorado Region

Bureau of Reclamation, PO Box 61470 (Nevada Highway and Park Street), Boulder City, Nevada 89006-1470, telephone 702-293-8536.

1. Milton and Jean Phillips, Cameron Brothers Construction Co., Ogram Farms, Bruce Church, Inc., and Sunkist Growers, Inc., BCP, Arizona: Colorado River water delivery contracts, as recommended by Arizona Department of Water Resources, with agricultural entities located near the Colorado River for up to 11,057 acre-feet per year total.

2. Armon Curtis, Arlin Dulin, Jack Rayner, Glen Curtis, Jamar Produce Corporation, and Ansel T. Hall, BCP, Arizona: Amendatory Colorado River water delivery contracts: To exempt each referenced contractor from the acreage limitation and full-cost pricing provisions of the RRA.

3. Brooke Water Co. and Havasu Water Co., BCP, Arizona: Contracts for additional Colorado River water to entities located along the Colorado River in Arizona for up to 1,540 acre-feet per year for domestic uses as recommended by the Arizona Department of Water Resources.

4. National Park Service for Lake Mead National Recreation Area, Supreme Court Decree in Arizona v. California, and BCP in Arizona and Nevada: Agreement for delivery of Colorado River water for the National Park Service's Federal Establishment PPR for diversion of 500 acre-feet annually and the National Park Service's Federal Establishment PPR pursuant to Executive Order No. 5125 (April 25, 1930).

5. Mohave Valley IDD, BCP, Arizona: Amendment of current contract for additional Colorado River water, change in service area, diversion points, RRA exemption, and PPRs.

6. Miscellaneous PPR entitlement holders, BCP, Arizona, and California: New contracts for entitlement to Colorado River water as decreed by the U.S. Supreme Court in Arizona v. California, as supplemented or amended, and as required by section 5 of the Boulder Canyon Project Act. Miscellaneous PPRs holders are listed in the January 9, 1979, Supreme Court Supplemental Decree in Arizona v. California et al.

7. Miscellaneous PPR No. 11, BCP, Arizona: Assign a portion of the PPR from Holpal to McNulty et al.

8. Federal establishment PPRs entitlement holders, BCP: Individual contracts for administration of Colorado River water entitlement of the Colorado River, Fort Mojave, Quechan, Chemehuevi, and Cocopah Indian Tribes.

9. United States facilities, BCP, Arizona and California: Reservation of Colorado River water for use at existing Federal facilities and lands administered by Reclamation.

10. Bureau of Land Management, BCP, Arizona: Contract for 1,176 acre-feet per year, for irrigation use, of Arizona's Colorado River water that is not used by higher-priority Arizona entitlement holders.

11. Curtis Family Trust et al., BCP, Arizona: Contract for 2,100 acre-feet per year of Colorado River water for irrigation.

12. Beattie Farms SW, BCP, Arizona: Contract for 1,890 acre-feet per year of unused Arizona entitlement of Colorado River water for irrigation use.

13. Arizona Game and Fish Department, BCP, Arizona: Contract for 250 acre-feet per year of unused Arizona entitlement of Colorado River water for environmental use until a permanent water supply can be obtained.

14. U.S. Fish and Wildlife Service, Lower Colorado River Refuge Complex, BCP, Arizona: Agreement to administer the Colorado River water entitlement for refuge lands located in Arizona to resolve water rights coordination issues, and to provide for an additional entitlement for nonconsumptive use of flow through water.

15. Hilander C ID, Colorado River Basin Salinity Control Project, Arizona: Colorado River water delivery contract for 4,500 acre-feet per year.

16. Maricopa-Stanfield IDD, CAP, Arizona: Amend distribution system repayment contract No. 4-07-30-W0047 to reschedule repayment pursuant to June 28, 1996, agreement.

17. Indian and non-Indian agricultural and MI water users, CAP, Arizona: New and amendatory contracts for repayment of Federal expenditures for construction of distribution systems.

18. Tohono O'odham Nation, SRPA, Arizona: Repayment contract for a $7.3 million loan for the Schuk Toak District.

19. San Tan ID, CAP, Arizona: Amend distribution system repayment contract No. 6-07-30-W0120 to increase the repayment obligation by approximately $168,000.

20. Central Arizona Drainage and Irrigation District, CAP, Arizona: Amend distribution system repayment contract No. 4-07-30-W0048 to modify repayment terms pursuant to final order issued by U.S. Bankruptcy Court, District of Arizona.

21. City of Needles, Lower Colorado Water Supply Project, California: Amend contract No. 2-07-30-W0280 to extend Needles water service subcontracting authority to the Counties of Imperial and Riverside.

22. Imperial ID/Coachella Valley WD and/or The Metropolitan WD of Southern California, BCP, California: Contract to fund the Department of the Interior's expenses to conserve All-American Canal seepage water in accordance with Title II of the San Luis Rey Indian Water Rights Settlement Act dated November 17, 1988.

23. Coachella Valley WD and/or The Metropolitan WD of Southern California, BCP, California: Contract to fund the Department of the Interior's expenses to conserve seepage water from the Coachella Branch of the All-American Canal in accordance with Title II of the San Luis Rey Indian Water Rights Settlement Act, dated November 17, 1988.

24. Southern Nevada Water Authority, Robert B. Griffith Water Project, BCP, Nevada: Amend the repayment contract to provide for the incorporation of the Griffith Project into the expanded southern Nevada Water System, funded and built by Southern Nevada Water Authority, to facilitate the diversion, treatment, and conveyance of additional water out of Lake Mead for which the Authority has an existing entitlement to use.

25. Salt River-Pima Maricopa Indian Community, CAP, Arizona: O&M contract for its CAP water distribution system.

26. Bullhead City, BCP, Arizona: Assignment of annual 1,800 acre-feet Colorado River water entitlement and associated service area from Mohave County Water Conservation District to Bullhead City, Arizona.

27. U.S. Army Proving Ground, BCP, Arizona: Agreement for 1,883 acre-feet of Colorado River water per year.

28. Arizona State Land Department, BCP, Arizona: Colorado River water delivery contract for 1,400 acre-feet per year for domestic use.

29. Miscellaneous PPR No. 38, BCP, California: Assign Schroeder's portion of the PPR to Murphy Broadcasting and change the place and type of water use.

30. Berneil Water Co., CAP, Arizona: Water service contracts associated with partial assignment of water service to the Cave Creek Water Company.

31. Tohono O'odham Nation, CAP, Arizona: Repayment contract for construction costs associated with water distribution system for Central Arizona IDD.

32. Tohono O'odham Nation, CAP, Arizona: Contracts for Schuk Toak and San Xavier Districts for repayment of Federal expenditures for construction of distribution systems.

33. Don Schuler, BCP, California: Temporary delivery contract for surplus and/or unused apportionment Colorado River water for domestic and industrial use on 18 lots of recreational homes.

34. Bureau of Land Management, BCP, California: Agreement for 1,000 acre-feet per year of Colorado River water in accordance with Secretarial Reservation.

35. Bureau of Land Management, BCP, Arizona: Agreement for 4,010 acre-feet per year of Colorado River water in accordance with Secretarial Reservations.

36. Arizona Public Service Company and Imperial ID, BCP, Arizona and California: Colorado River water delivery contract for up to 1,500 acre-feet per year of unused Arizona entitlement and/or surplus water.

37. Canyon Forest Village II Corporation, BCP, Arizona: Colorado River water delivery contract for up to 400 acre-feet per year of unused Arizona apportionment or surplus apportionment for domestic use.

38. Gila Project Works, Gila Project, Arizona: Title transfer of facilities and certain lands in the Wellton-Mohawk Division from the United States to the Wellton-Mohawk IDD.

39. McMicken ID, CAP, Arizona: Assignment of 486 acre-feet of M&I water per year to the City of Peoria.

40. ASARCO Inc., CAP, Arizona: Amendment to extend deadline for giving notice of termination on exchange subcontract to December 31, 2000.

41. BHP Copper, Inc., CAP, Arizona: Amendment to extend deadline for giving notice of termination on exchange subcontract to December 31, 2000.

42. Cyprus Miami Mining Corporation, CAP, Arizona: Amendment to extend deadline for giving notice of termination on exchange subcontract to December 31, 2000.

43. Bureau of Reclamation, BCP, Arizona and California: Surplus Colorado River water entitlements for environmental habitat improvement projects.

44. Agricultural and M water users, CAP, Arizona: Water service subcontracts for percentages of available supply reallocated in 1992 for irrigation entities and up to 640,000 acre-feet per year allocated in 1983 for M&I use.

45. Southern Nevada Water Authority, Robert B. Griffith Water Project, Nevada: Title transfer of physical facilities with interest in acquired lands and grant or assignment of perpetual rights or easements over Federal lands.

46. Hohokam IDD, CAP, Arizona: Amend water distribution system repayment contract to reflect final project costs.

47. Gila River Indian Community, CAP, Arizona: Amend CAP water delivery contract and distribution system repayment and operation, maintenance, and replacement contract pursuant to anticipated Gila River Indian Community Water Rights Settlement Agreement.

48. Basic Management, Inc., Salinity Project, Nevada: Title transfer of the Pitman Wash Bypass Demonstration Project Facilities and all interests in acquired lands and easements associated with an obligation to continue bypassing the water in Pitman Wash.

49. BHP Copper, Inc., CAP, Arizona: Proposed agreement and amendments to CAP water delivery subcontracts to transfer BHP Copper's CAP water allocation to the City of Scottsdale, Town of Carefree, and Tonto Hills Utility Company.

50. Litchfield Park Service Company, CAP, Arizona: Assignment of 1,200 acre-feet per year of CAP M&I water to the City of Scottsdale.

51. California WDs, BCP, California: Incorporate into the water delivery contracts with several water districts (Coachella Valley WD, Imperial ID, Palo Verde ID, and The Metropolitan WD of Southern California), through new contracts, contract amendments, contract approvals, or other appropriate means, the agreement to be reached with those water districts to (i) quantity the Colorado River water entitlements for Coachella Valley WD and Imperial ID and (ii) provide a basis for water transfers among California water districts.

52. Coachella Valley WD, BCP, California: Amend contract designated symbol 14-20-650, contract No. 631, which authorizes the United States to construct irrigation and drainage works for certain Indian lands within the District, to provide for construction of necessary facilities to allow water deliveries for irrigation of up to 322 acres of lands on the Torres-Martinez Indian Reservation located within the Coachella Valley WD's Improvement District No. 1.

53. Arizona State Land Department, CAP, Arizona: Assignment of 1,500 acre-feet per year of CAP water from the Arizona State Land Department to the City of Mesa.

54. Miscellaneous PPR No.11, BCP, California: Assign the contract from Dickman et al. to Sonny Gowan.

55. Cibola Valley IDD, BCP, Arizona: Amendment to the District's Colorado River water delivery contract to permanently reduce the District's water entitlement by approximately 600 acre-feet per year to facilitate the transfer of such water to a golf course development in the Lake Havasu area. New or amendatory Colorado River water delivery contract with the entitlement holder for the transferred water.

56. North Gila Valley IDD, Yuma ID, and Yuma Mesa IDD, Yuma Mesa Division, Gila Project, Arizona: Administrative action to amend each district's Colorado River water delivery contract to effectuate a change from a “pooled” water entitlement for the Division to a quantified entitlement for each district.

57. Indian and/or non-Indian M&I users, CAP, Arizona: New or amendatory water service contracts or subcontracts in accordance with an anticipated final record of decision for reallocation CAP water, as discussed in the Secretary of the Interior's notice published on page 41456 of the Federal Register on July 30, 1999. The following contract actions have been discontinued or completed since the last publication of this notice on October 21, 1999.

Discontinued contract actions

1. (48) San Carlos-Apache Tribe, CAP, Arizona: Agreement among the United States, Salt River Project Agricultural Improvement and Power District, and Salt River Valley Water Users' Association for exchange of up to 14,000 acre-feet of Black River water for CAP water.

2. (49) San Carlos-Apache Tribe, Arizona: Agreement among the San Carlos-Apache Tribe, the United States and Phelps Dodge Corporation for the lease of Black River water.

Completed contract actions

1. (28) McMicken ID/Town of Goodyear, CAP, Arizona: Amend McMicken's CAP subcontract to reduce its entitlement by 507 acre-feet and Goodyear's water/service subcontract to increase its entitlement by 507 acre-feet.

2. (50) San Carlos Apache Tribe, CAP, Arizona: Amendatory contract to increase the Tribe's CAP water entitlement pursuant to the San Carlos Apache Tribe Water Rights Settlement Act.

3. (53) City of Goodyear, CAP, Arizona: Amendment to increase Goodyear's CAP water entitlement by 1,007 acre-feet pursuant to agreement with McMicken ID to transfer its right to this water under subcontract No. 5-07-30-W0100.

4. (55) E&R Water Company, CAP, Arizona: Exchange agreement to transfer 161 acre-feet of CAP water to the Salt River Project.

5. (58) Sun City Water Co., CAP, Arizona: Partial assignment of 2,372 acre-feet of CAP M&I water to Sun City West Utilities Co.

6. (61) Cortaro Marana ID, CAP, Arizona: Assignment of 47 acre-feet of CAP M&I water to the Town of Marana.

7. (65) Brooke Water, L.L.C., CAP, Arizona: Assignment of 3,932 acre-feet of CAP M&I water to Circle City Water Company.

Upper Colorado Region

Bureau of Reclamation, 125 South State Street, Room 6107, Salt Lake City, Utah 84138-1102, telephone 801-524-4419.

1. Individual irrigators, M&I, and miscellaneous water users, Initial Units, CRSP; Utah, Wyoming, Colorado, and New Mexico: Temporary (interim) water service contracts for surplus project water for irrigation or M&I use to provide up to 10,000 acre-feet of water annually for terms up to 10 years; long-term contracts for similar service for up to 1,000 acre-feet of water annually.

(a) Harrison F. Russell and Patricia E. Russell, Wayne N. Aspinall Unit, CRSP, Colorado: Contract for 1 acre-foot to support an augmentation plan, Case No. 97CW39, Water Division Court No. 4, State of Colorado, to provide for a single-family residential well, including home lawn and livestock watering (non-commercial).

(b) City of Page, Arizona, Glen Canyon Unit, CRSP, Arizona: Long-term contract for 1,000 acre-feet of water for municipal purposes.

(c) LeChee Chapter of the Navajo Nation, Glen Canyon Unit, CRSP, Arizona: Long-term contract for 1,000 acre-feet for municipal purposes.

(d) Stephens, Walter Daniel, Wayne N. Aspinall Unit, CRSP, Colorado: Contract for 2 acre-feet to support an augmentation plan, Case No. 97CW49, Water Division Court No. 4, State of Colorado, to provide for pond evaporative depletions during the non-irrigation season.

(e) Daggett County, Utah, Flaming Gorge Unit, CRSP, Utah: M&I water service contract covering payment for and delivery of up to 12,000 acre-feet of untreated water as required by Section 10(k)(2) of Public Law 105-326.

(f) Margarett W. Furey, Wayne N. Aspinall Unit, CRSP, Colorado: Contract for 1 acre-foot to support augmentation plan. R&D Investment has filed an application with the Division 4 Water Court of the State of Colorado seeking decree for a domestic well to serve the Ms. Furey domestic in-house residential use, lawn and garden irrigation, pond evaporation, and stock watering.

2. Southern Ute Indian Tribe, Animas-La Plata Project, Colorado: Repayment contract for 26,500 acre-feet per year for M&I use and 2,600 acre-feet per year for irrigation use in Phase One and 700 acre-feet in Phase Two; contract terms to be consistent with binding cost-sharing agreement and water rights settlement agreement.

3. Ute Mountain Ute Tribe, Animas-La Plata Project, Colorado and New Mexico: Repayment contract; 6,000 acre-feet per year for M&I use in Colorado; 26,400 acre-feet per year for irrigation use in Colorado; 900 acre-feet per year for irrigation use in New Mexico; contract terms to be consistent with binding cost-sharing agreement and water rights settlement agreement.

4. William Nielson, Dolores Project, Colorado: Carriage contract to carry up to 1.5 cfs of non-project water in project facilities under the authority of the Warren Act of 1911.

5. San Juan-Chama Project, New Mexico: San Juan Pueblo repayment contract for up to 2,000 acre-feet of project water for irrigation purposes. Taos Area—The Taos area Acequias, the Town and County of Taos are forming a joint powers agreement to form an organization to enter into a repayment contract for up to 2,990 acre-feet of project water to be used for irrigation and M&I in the Taos, New Mexico area.

6. Carlsbad ID, Carlsbad Project, New Mexico: Contract to provide for repayment of the District's 15 percent share of proposed modifications to Avalon Dam under the SOD program.

7. The National Park Service, Colorado Water Conservation Board, Wayne N. Aspinall Unit, CRSP, Colorado: Contract to provide specific river flow patterns in the Gunnison River through the Black Canyon of the Gunnison National Monument.

8. Upper Gunnison River Water Conservancy District, Wayne N. Aspinall Unit, CRSP, Colorado: Long-term water service contract for municipal, domestic, and irrigation use.

9. Upper Gunnison River Water Conservancy District, Wayne N. Aspinall Unit, CRSP, Colorado: Substitute supply plan for the administration of the Gunnison River.

10. Uncompahgre Valley Water Users Association, Upper Gunnison River Water Conservancy District, Colorado River Water Conservation District, Uncompahgre Project, Colorado: Water management agreement for water stored at Taylor Park Reservoir and the Wayne N. Aspinall Storage Units to improve water management.

11. Southern Ute Indian Tribe, Florida Project, Colorado: Supplement to contract No. 14-06-400-3038, dated May 7, 1963, for an additional 181 acre-feet of project water, plus 563 acre-feet of water pursuant to the 1986 Colorado Ute Indian Water Rights Final Settlement Agreement.

12. Grand Valley Water Users Association, Orchard Mesa ID, and Public Service Company of Colorado, Grand Valley Project, Colorado: Water service contract for the utilization of project water for cooling purposes for a steam electric generation plant.

13. Public Service Company of New Mexico, CRSP, Navajo Unit, New Mexico: New water service contract for diversion of 16,700 acre-feet, not to exceed a depletion of 16,200 acre-feet of project water for cooling purposes for a steam electric generation plant.

14. Sanpete County Water Conservancy District, Narrows Project, Utah: Application for an SRPA loan and grant to construct a dam, reservoir, and pipeline to annually supply approximately 5,000 acre-feet of water through a transmountain diversion from upper Gooseberry Creek in the Price River drainage (Colorado River Basin) to the San Pitch—Savor River (Great Basin).

15. Individual irrigators, Carlsbad Project, New Mexico: The United States proposes to enter into long-term forbearance lease agreements with individuals who have privately held water rights to divert non-project water either directly from the Pecos River or from shallow/artesian wells in the Pecos River Watershed. This action will result in additional water in the Pecos River to make up for the water depletions caused by changes in operations at Sumner Dam which were made to improve conditions for a threatened species, the Pecos bluntnose shiner.

16. Dolores Water Conservancy District, Dolores Project, Colorado: Carriage contract with the District to carry up to 6,000 acre-feet of non-project water in project facilities under the authority of the Warren Act of 1911.

17. Various contractors, San Juan-Chama Project, New Mexico: The United States proposes to purchase lease water from various contractors to stabilize flows in a critical reach of the Rio Grande in order to meet the needs of irrigators and preserve habitat for the silvery minnow.

18. Mancos Water Conservancy District, Mancos Project, Colorado: Amendment to repayment contract with the District to increase the farm unit size (for acreage limitation purposes) from 160 to 750 acres, pursuant to the WCUA of 1939.

19. Ogden River Water Users Association and Weber Basin Water Conservancy District, Ogden River and Weber Basin Projects, Utah: Contract to provide for repayment of water users portion of construction contract due to SOD investigations recommendations at Pineview Dam.

The following contract action has been discontinued since the last publication of this notice on October 21, 1999.

1. (4) Pine River ID, Pine River Project: Contract to allow the District to convert up to 2,000 acre-feet of project irrigation water to municipal, domestic, and industrial uses.

Great Plains Region:

Bureau of Reclamation, PO Box 36900, Federal Building, 316 North 26th Street, Billings, Montana 59107-6900, telephone 406-247-7730.

1. Individual irrigators, MI, and miscellaneous water users: Colorado, Kansas, Montana, Nebraska, North Dakota, Oklahoma, South Dakota, Texas, and Wyoming: Temporary (interim) water service contracts for the sale, conveyance, storage, and exchange of surplus project water and non-project water for irrigation or M&I use to provide up to 10,000 acre-feet of water annually for a term up to 1 year.

2. Green Mountain Reservoir, Colorado-Big Thompson Project, Colorado: Water service contracts for irrigation and M&I; contract negotiations for sale of water from the marketable yield to water users within the Colorado River Basin of Western Colorado.

3. Ruedi Reservoir, Fryingpan-Arkansas Project, Colorado: Second round water sales from the regulatory capacity of Ruedi Reservoir. Water service and repayment contracts for up to 17,000 acre-feet annually for M&I use; contract with Colorado Water Conservation Board and the U.S. Fish and Wildlife Service for 21,650 acre-feet for endangered fishes.

4. Garrison Diversion Unit, P-SMBP, North Dakota: Renegotiation of the master repayment contract with Garrison Diversion Conservancy District to conform with the Garrison Diversion Unit Reformulation Act of 1986; negotiation of repayment contracts with irrigators and M&I users.

5. City of Rapid City and Rapid Valley Water Conservancy District, Rapid Valley Unit, P-SMBP, South Dakota: Contract renewal for up to 55,000 acre-feet of storage capacity in Pactola Reservoir.

6. Pathfinder ID, North Platte Project, Nebraska: Negotiation of contract regarding SOD program modification of Lake Alice Dam No. 1 Filter/Drain.

7. Northern Cheyenne Indian Reservation, Yellowtail Unit, Lower Bighorn Division, P-SMBP, Montana: In accordance with section 9 of the Northern Cheyenne Reserved Water Rights Settlement Act of 1992, the United States and the Northern Cheyenne Indian Tribe are proposing to contract for 30,000 acre-feet per year of stored water from Bighorn Reservoir. The Tribe will pay the United States both capital and O&M costs associated with each acre-foot of water the Tribe uses or sells from this storage for M&I purposes. Reclamation and the Tribe are continuing to negotiate the terms of the Agreement. A date for execution has not been scheduled.

8. Mid-Dakota Rural Water System, Inc., South Dakota: Pursuant to the Reclamation Projects Authorization and Adjustment Act of 1992, the Secretary of the Interior is authorized to make grants and loans to Mid-Dakota Rural Water System, Inc., a nonprofit corporation for the planning and construction of a rural water supply system.

9. Angostura ID, Angostura Unit, P-SMBP, South Dakota: The District had a contract for water service which expired on December 31, 1995. An interim 3-year contract provided for a continuing water supply and the District to operate and maintain the dam and reservoir. The proposed long-term contract would provide a continued water supply for the District and the District's continued O&M of the facility. A BON is currently being developed for a long-term contract.

10. Cities of Loveland and Berthoud, Colorado, Colorado-Big Thompson Project, Colorado: Long-term contracts for conveyance of non-project M&I water through Colorado-Big Thompson Project facilities pursuant to the Town Sites and Power Development Act of 1906.

11. P-SMBP, Kansas and Nebraska: Initiate negotiations for renewal of long-term water supply contracts with Kansas-Bostwick, Nebraska-Bostwick, Frenchman Valley, Frenchman-Cambridge, and Almena IDs.

12. Northwest Area Water Supply, North Dakota: Long-term contract for water supply from Garrison Diversion Unit facilities. BON has been approved by Commissioner. Negotiations are pending.

13. Fort Shaw ID, Sun River Project, Montana: Contract for SOD costs for repairs to Willow Creek Dam. The proposed contract for the emergency repairs has been combined with the contract for repayment of additional SOD work as outlined in the approval memorandum dated November 17, 1999. Negotiations have been completed. Anticipate execution of the contract in January 2000.

14. P-SMBP, Kansas: Water service contracts with the Kirwin and Webster IDs in the Solomon River Basin in Kansas will be extended for a period of 4 years in accordance with Public Law 104-326 enacted October 19, 1996. Water service contracts will be renewed prior to expiration.

15. City of Cheyenne, Kendrick Project, Wyoming: Negotiation of contract to renew for an additional term of 5 years. Contract for up to 10,000 acre-feet of storage space for replacement water on a yearly basis in Seminoe Reservoir. A temporary contract has been issued pending negotiation of the long-term contract.

16. Highland-Hanover ID, Hanover-Bluff Unit, P-SMBP, Wyoming: Renegotiation of long-term water service contract; includes provisions for repayment of construction costs.

17. Upper Bluff ID, Hanover-Bluff Unit, P-SMBP, Wyoming: Renegotiation of long-term water service contract; includes provisions for repayment of construction cost.

18. Fort Clark ID, P-SMBP, North Dakota: Negotiation of water service contract to continue delivery of project water to the District.

19. Nueces River Project, Texas: Recalculate existing contract repayment schedule to conform with the provisions of the Emergency Drought Relief Act of 1996. The revised schedule is to reflect a 5-year deferment of payments.

20. Western Heart River ID, Heart Butte Unit, P-SMBP, North Dakota: Negotiation of water service contract to continue delivery of project water to the District.

21. Lower Marias Unit, P-SMBP, Montana: Water service contract expired June 1997. Initiating renewal of existing contract for 25 years for up to 480 acre-feet of storage from Tiber Reservoir to irrigate 160 acres. Received approved BON from the Commissioner. Currently developing the contract and consulting with the Tribes regarding the Water Rights Compact. A 1-year interim contract has been issued to continue delivery of water until the necessary actions can be completed to renew a long-term contract.

22. Lower Marias Unit, P-SMBP, Montana: Initiating 25-year water service contract for up to 750 acre-feet of storage from Tiber Reservoir to irrigate 250 acres. A 1-year temporary contract has been issued to allow additional time to complete necessary actions required for the long-term contract.

23. Lower Marias Unit, P-SMBP, Montana: Water service contract expired May 31, 1998. Initiating renewal of the long-term water service contract to provide 4,570 acre-feet of storage from Tiber Reservoir to irrigate 2,285 acres. A 1-year interim contract has been issued to continue delivery of water until the necessary actions can be completed to renew the long-term contract.

24. Dickinson-Heart River Mutual Aid Corporation, Dickinson Unit, P-SMBP, North Dakota: Negotiate renewal of water service contract for irrigation of lands below Dickinson Dam in western North Dakota.

25. Savage ID, P-SMBP, Montana: An interim contract has been entered into with the District. The District is currently seeking title transfer. The contract is subject to renewal on an annual basis pending outcome of the title transfer process.

26. City of Fort Collins, Colorado-Big Thompson Project, Colorado: Long-term contracts for conveyance and storage of non-project MI water through Colorado-Big Thompson Project facilities pursuant to the Town Sites and Power Development Act of 1906.

27. Fryingpan-Arkansas Project, Colorado: Proposed contract amendment to contract No. 9-07-70-W099 with Busk-Ivanhoe, Inc.

28. Green Mountain Project, Colorado: HUP contracts for surplus water for recreation. This contract is to benefit the endangered fish.

29. Fryingpan-Arkansas Project, Colorado: Pueblo Board of Water Works, long-term storage and conveyance contract.

30. Keith Bower (Individual), Boysen Unit, P-SMBP, Wyoming: Contract for up to 500 acre-feet of irrigation water to service 144 acres.

31. Canyon Lam. Liability (Individual), Boysen Unit, P-SMBP, Wyoming. Contract for up to 16 acre-feet of supplemental irrigation water to service 4 acres.

32. L.U. Sheep Company (Individual), Boysen Unit, P-SMBP, Wyoming. Contract for up to 60 acre-feet of irrigation water to service 180 acres.

33. Northern Colorado Water Conservancy District, Colorado-Big Thompson Project, Colorado: Acting by and through the Pleasant Valley Pipeline Project Water Activity Enterprise, beginning discussions and draft BON for a long-term contract for conveyance of non-project water through Colorado-Big Thompson Project facilities.

34. Tom Green County and Improvement District No. 1, San Angelo Project, Texas: The irrigation district is requesting a deferment of its 2000 construction payment. In the process of developing a BON.

35. Standing Rock Sioux Tribe, P-SMBP, North Dakota: Negotiate a long-term water service contract with the Standing Rock Sioux Tribe in North Dakota for irrigation of up to 2,380 acres of land within the reservation.

36. Northern Colorado Water Conservancy District, Colorado-Big Thompson, Colorado: SOD repayment contract negotiations for modification to Horsetooth Dam.

Dated: January 14, 2000.
A. Jack Garner,
Acting Deputy Director, Office of Policy.

[FR Doc. 00-1445 Filed 1-20-00; 8:45 am]

BILLING CODE 4310-94-P